DEPARTMENT OF HOMELAND SECURITY

Federal Emergency Management Agency

44 CFR Part 67

[Docket ID FEMA-2008-0020; Internal Agency Docket No. FEMA-B-1072]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 7, 2009.

ADDRESSES: The corresponding preliminary Flood Insurance Rate Map (FIRM) for the proposed BFEs for each community is available for inspection at the community's map repository. The respective addresses are listed in the table below.

You may submit comments, identified by Docket No. FEMA-B-1072, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Napa County, California, and Incorporated Areas
Napa Creek | At the confluence with Napa River | +22 | +18 | City of Napa.
| Approximately 100 feet upstream of Jefferson Street | +35 | +34
Napa River (With Levee) | Approximately 715 feet west of intersection of State Route 121 and East Avenue | +28 | +27 | City of Napa, Unincorporated Areas of Napa County.
| Approximately 1,530 feet southwest of intersection of State Route 121 and Woodland Drive | +32 | +29
Napa River (Without Levee) | Approximately 0.5 mile downstream of Imola Avenue | +13 | +12 | City of Napa, Unincorporated Areas of Napa County.
| Approximately 1,230 feet downstream of confluence of Soda Creek | +47 | +46
Napa River Oxbow Overflow | At the confluence with Tulucay Creek | +18 | +16 | City of Napa, Unincorporated Areas of Napa County.
| Approximately 0.39 mile upstream of Soscol Avenue | +22 | +19
Ponding Areas with elevations determined (AH Zones) | Extensive ponding areas, in roadways south of Salvador creek (lowest elevation) | None | +76
Salvador Creek | At the confluence with Napa River | +33 | +31 | City of Napa, Unincorporated Areas of Napa County.
| Approximately 100 feet upstream of State Highway 29 | None | +75
Salvador Creek North Branch | At the confluence with Salvador Creek | None | +75 | City of Napa, Unincorporated Areas of Napa County.
| Approximately 0.8 mile upstream of confluence with Salvador Creek | None | +93 | Unincorporated Areas of Napa County.
Salvador Creek South Branch | At the confluence with Salvador Creek | None | +75 | City of Napa.
| Approximately 1,365 feet upstream of Salvador Creek | None | +76
Shallow Flooding (AO Zone) | Shallow flooding area, approximately 425 feet northeast of intersection of Imola Avenue and Gasser Drive | +15 | #1 | City of Napa.
| Shallow flooding area, approximately 1,400 feet northeast of intersection of Imola Avenue and Gasser Drive | +17 | #2
Tulucay Creek | At the confluence with Napa River | +18 | +15 | City of Napa.
| Approximately 560 feet upstream of Shurtleff Avenue | +37 | +38 | Unincorporated Areas of Napa County.
* National Geodetic Vertical Datum.
+ North American Certical Datum.
# Depth in feet above ground.
‸ Mean Sea Level, rounded to the nearest 0.1 meter.
**BEFs to be changed include the listed downstream and upstream BFEs, and include BFEs located on the stream reach between the referenced locations above. Please refer to the revised Flood Insurance Rate Map located at the community map repository (see below) for exact locations of all BFEs to be changed.
Send comments comments to Kevin C. Long, Acting Chief, Engineering Management Branch, Mitigation Directorate, Federal Emergency Management Agency, 500 C Street, SW., Washington, DC 20472.
ADDRESSES
City of Napa
Maps are Available for inspection at the City of Napa Public Works Department, 1600 1st Street, Napa, CA 94559.
Unincorporated Areas of Napa County
Maps are available for inspection at the Napa County Public Works Department, 1195 3rd Street, Suite 201, Napa, CA 94559.
New London County, Connecticut (All Jurisdictions)
Four Mile River | Approximately 200 feet downstream of Breached Dam | +11 | +10 | Town of Old Lyme.
| Approximately 1,200 feet upstream of I-95 | +51 | +52
Long Island Sound | Approximately 3,100 feet south of the intersection of Dimmock Road and Great Neck Road Approximately 375 feet southwest of the intersection of Lindberg Road and Oak Street | None +13 | +14 +15 | Town of East Lyme, Borough of Stonington, City of Groton, City of New London Noank Fire District, Town of Groton, Town of Old Lyme, Town of Stonington, Town of Waterford.
Shunock River | Just upstream of Pendleton Hill Road | None | +29 | Town of Stonington.
| Approximately 400 feet upstream of Pendleton Hill Road | None | +30
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Borough of Stonington
Maps are available for inspection at the Borough Hall, 26 Church Street, Stonington, CT 06378.
City of Groton
Maps are available for inspection at the City Municipal Building, 295 Meridian Street, Groton, CT 06340.
City of New London
Maps are available for inspection at City Hall, 181 State Street, New London, CT 06320.
Noank Fire District
Maps are available for inspection at 45 Fort Hill Road, Groton, CT 06340.
Town of East Lyme
Maps are available for inspection at the Town Hall, 108 Pennsylvania Avenue, Niantic, CT 06357.
Town of Groton
Maps are available for inspection at the Town Hall, 175 Shennecossett Parkway, Groton, CT 06340.
Town of Old Lyme
Maps are available for inspection at the Old Lyme Memorial Town Hall, 52 Lyme Street, Old Lyme, CT 06371.
Town of Stonington
Maps are available for inspection at the Town Hall, 152 Elm Street, Stonington, CT 06378.
Town of Waterford
Maps are available for inspection at the Town Hall, 15 Rope Ferry Road, Waterford, CT 06385.
McDuffie County, Georgia, and Incorporated Areas
Boggy Gut Creek | Approximately 2.35 miles upstream of Harlem Wrens Road | None | +429 | Unincorporated Areas of McDuffie County.
| Approximately 3.13 miles upstream of Harlem Wrens Road | None | +483
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of McDuffie County
Maps are available for inspection at 504 Railroad Street, Thomson, GA 30824.
Murray County, Georgia, and Incorporated Areas
Holly Creek | Approximately 0.77 mile downstream of CSX Railroad | None | +717 | City of Chatsworth.
| Approximately 0.4 mile upstream of State Highway 52/U.S. Route 76 | +730 | +729
Mill Creek | Approximately 750 feet downstream of U.S. Highway 411 | None | +720 | Town of Eton.
| Approximately 1,300 feet upstream of State Route 286/Old CCC Camp Road | None | +733
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Chatsworth
Maps are available for inspection at City Hall, 400 North 3rd Avenue, Chatsworth, GA 30705.
Town of Eton
Maps are available for inspection at Eton City Hall, 3464 Highway 411 North, Eton, GA 30724.
Troup County, Georgia, and Incorporated Areas
Shoal Creek | Approximately 2,350 feet upstream of Youngs Mill Road | None | +649 | City of Lagrange.
| Approximately 100 feet downstream of Hammett Road | None | +661
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Lagrange
Maps are available for inspection at City Hall, 200 Ridley Avenue, Lagrange, GA 30240.
Nantucket County, Massachusetts (All Jurisdictions)
Atlantic Ocean | Along the shoreline, approximately 115 feet from the intersection of Bartlett Farm Road and West Macomet Road | None | +8 | Town of Nantucket.
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Nantucket
Maps are available for inspection at the Town Building Annex, 16 Broad Street, Nantucket, MA 02554.
Alcorn County, Mississippi, and Incorporated Areas
Elam Creek | Approximately 123 feet downstream of South Harper Road | None | +421 | City of Corinth.
| Just downstream of County Road 701 | None | +483
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Corinth
Maps are available for inspection at City Hall, 300 Childs Street, Corinth, MS 38834.
Yalobusha County, Mississippi, and Incorporated Areas
Enid Lake | Entire shoreline (within county) | None | +274 | Unincorporated Areas of Yalobusha County, City of Water Valley.
Grenada Lake | Entire shoreline (within county) | None | +237 | Unincorporated Areas of Yalobusha County, Town of Coffeeville.
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Water Valley
Maps are available for inspection at City Hall, 101 Blackmur Drive, Water Valley, MS 38965.
Town of Coffeeville
Maps are available for inspection at the Town Hall, 14615 Depot Street, Coffeeville, MS 38922.
Unincorporated Areas of Yalobusha County
Maps are available for inspection at the County Courthouse, 201 Blackmur Drive, Water Valley, MS 38965.
Chittenden County, Vermont (All Jurisdictions)
Browns River | Approximately 1,500 feet upstream of Brown River Road (Route 128) | None | +354 | Town of Essex, Town of Jericho, Town of Underhill, Town of Westford.
| Approximately 100 feet upstream of Stevensville Road | +822 | +819
Winooski River | Approximately 450 feet upstream of Essex Road (Park Street) Bridge | +284 | +286 | Town of Bolton, Town of Essex, Town of Jericho, Town of Richmond, Town of Williston, Village of Essex Junction.
| Approximately 1,500 feet upstream from the Central Vermont Railroad | +352 | +356
* National Geodetic Vertical Datum.
+ North American Vertical Datum.
# Depth in feet above ground.
‸ Mean Sea Level, rounded to the nearest 0.1 meter.
**BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Bolton
Maps are available for inspection at the Town Hall, 3045 Theodore Roosevelt Highway, Bolton, VT 05676.
Town of Essex
Maps are available for inspection at the Town Hall, 81 Main Street, Essex Junction, VT 05452.
Town of Jericho
Maps are available for inspection at the Town Hall, 67 Vermont Route 15, Jericho, VT 05465.
Town of Richmond
Maps are available for inspection at the Town Hall, 203 Bridge Street, Richmond, VT 05477.
Town of Underhill
Maps are available for inspection at the Town Hall, 12 Pleasant Valley, Underhill Center, VT 05490.
Town of Westford
Maps are available for inspection at the Town Office, 1713 Vermont Route 128, Westford, VT 05494.
Town of Williston
Maps are available for inspection at the Town Hall, 7900 Williston Road, Williston, VT 05495.
Village of Essex Junction
Maps are available for inspection at Lincoln Hall, 2 Lincoln Street, Essex Junction, VT 05452.

(Catalog of Federal Domestic Assistance No. 97.022, “Flood Insurance.”)

Deborah S. Ingram,
Acting Deputy Assistant Administrator for Mitigation, Mitigation Directorate, Department of Homeland Security, Federal Emergency Management Agency.

[FR Doc. E9-21472 Filed 9-4-09; 8:45 am]

BILLING CODE 9110-12-P